DEPARTMENT OF THE INTERIOR

Bureau of Land Management

[CO-140-08-1610-DP]

Notice of Public Meeting, Northwest Colorado Resource Advisory Council Subcommittees for the Kremmling Resource Management Plan Revision

AGENCY: Bureau of Land Management, DOI.

ACTION: Notice of Public Meeting.

SUMMARY: In accordance with the Federal Land Policy and Management Act (FLPMA) and the Federal Advisory Committee Act of 1972 (FACA), the U.S. Department of the Interior, Bureau of Land Management (BLM) Northwest Colorado Resource Advisory Council (RAC) Subcommittee on the Kremmling Resource Management Plan (RMP) Revision will meet as indicated below.

DATES: Nov. 27, 2007, from 5 p.m. to 7 p.m.

ADDRESSES: The Kremmling Subcommittee will meet at the Kremmling Field Office, 2103 E. Park Ave., Kremmling, CO.

FOR FURTHER INFORMATION CONTACT: Joe Stout, Lead Planner, 2103 E. Park Ave., Kremmling, CO; telephone 970-724-3003.

SUPPLEMENTARY INFORMATION: The Northwest Colorado RAC advises the Secretary of the Interior, through the Bureau of Land Management, on a variety of public land issues in northwestern Colorado. Two subcommittees have been formed under this RAC to advise it regarding the joint Glenwood Springs and Kremmling Field Offices' RMP Revisions. The individuals on each subcommittee represent a broad range of interests and have specific knowledge of the Field Offices. The Glenwood Springs subcommittee is comprised of up to 14 individuals and will focus on all aspects of the Glenwood Springs RMP Revision. The Kremmling Subcommittee is comprised of 10 individuals who will focus specifically on travel management and recreation issues for the Kremmling RMP Revision. Recommendations developed by these subcommittees will be presented formally for discussion to the NW RAC at publicly announced meetings of the full NW RAC.

Dated: November 2, 2007.
David Boyd,
Acting Glenwood Springs Field Manager, Lead Designated Federal Officer for the Northwest Colorado RAC.

[FR Doc. 07-5598 Filed 11-9-07; 8:45 am]

BILLING CODE 4310-JB-M